ENVIRONMENTAL PROTECTION AGENCY

40 CFR Part 63

[EPA-HQ-OAR-2020-0148; FRL-7527-02-OAR, EPA-HQ-OAR-2020-0505; FRL-7523-03-OAR, EPA-HQ-OAR-2020-0532; FRL-7523-03-OAR, FRL-9751-01-OAR]

RIN 2060-AU67, 2060-AU66

National Emission Standards for Hazardous Air Pollutants: General Provisions; Technical Correction

AGENCY: Environmental Protection Agency (EPA).

ACTION: Final rule; technical correction.

SUMMARY: In this action, the U.S. Environmental Protection Agency (EPA) is making technical corrections to the general provisions of the National Emission Standards for Hazardous Air Pollutants (NESHAP). Specifically, on November 19, 2021, EPA finalized changes to the NESHAPs for Refractory Products Manufacturing, Carbon Black Production (major sources), Cyanide Chemicals Manufacturing, and Carbon Black Production Area Sources and, also amended the general provisions. Following signature, the EPA discovered inadvertent minor errors in the ordering of the standards and methods that were being incorporated by reference in these rules. The Office of the Federal Register (OFR) was unable to complete the amendatory instructions, resulting in regulatory text intended for the general provisions to be omitted.

DATES: This technical correction is effective on May 23, 2022. The incorporation by reference (IBR) of certain publications listed in the rule was approved by the Director of the Federal Register as of November 19, 2021.

FOR FURTHER INFORMATION CONTACT: For questions about this final action, contact Mr. Muntasir Ali, Sector Policies and Programs Division (D243-05), Office of Air Quality Planning and Standards, U.S. Environmental Protection Agency, Research Triangle Park, North Carolina 27711; telephone number: (919) 541-0833; and email address: ali.muntasir@epa.gov.

SUPPLEMENTARY INFORMATION:

I. Summary of This Action

Section 553 of the Administrative Procedure Act (APA), 5 U.S.C. 553(b)(3)(B), provides that, when an agency for good cause finds that notice and public procedures are impracticable, unnecessary, or contrary to the public interest, the agency may issue a rule without providing notice and an opportunity for public comment. The EPA has determined that for this action, there is good cause for making these technical corrections final without a prior proposal and the opportunity for comment because the Agency is correcting minor errors that do not substantially change the Agency's action taken in each of the three final rules discussed. These technical corrections will ensure that the regulatory text agrees with the description of the rule that the EPA provided in the final rule preamble for each of the three rules discussed in this action. Thus, notice and comment public procedures are unnecessary. The Agency finds that this constitutes a good cause under 5 U.S.C. 553(b)(3)(B). See also the final sentence of section 307(d)(1) of the Clean Air Act (CAA), 42 U.S.C. 307(d)(1), indicating that the good cause provisions in subsection 553(b) of the APA continue to apply to this type of rulemaking under section 307(d) of the CAA.

On the November 19, 2021, the EPA finalized amendments to multiple NESHAPs. The first rule finalized the Refractory Products Manufacturing Residual Risk and Technology Review (86 FR 66045). The second rule finalized the Carbon Black Production (major sources) and Cyanide Chemical Manufacturing Residual Risk and Technology Reviews and the Carbon Black Production Area Source Technology Review (86 FR 66096). Both actions incorporated by reference three different test methods: ASTM D4282-15, Standard Test Method for Determination of Free Cyanide in Water and Wastewater by Microdiffusion, approved July 15, 2015; ASTM D6784-16; Standard Test Method for Elemental, Oxidized, Particle-Bound and Total Mercury in Flue Gas Generated from Coal-Fired Stationary Sources (Ontario Hydro Method), approved March 1, 2016; and ASTM D7237-18, Standard Test Method for Free Cyanide and Aquatic Free Cyanide with Flow Injection Analysis (FIA) Utilizing Gas Diffusion Separation and Amperometric Detection, approved December 1, 2018. This was the first time these test methods were incorporated by reference under the Code of Federal Regulations (CFR). Because the methods were incorporated by reference for the first time and the final rules published on the same date, there was an error in alphanumerically ordering the test methods in 40 CFR 63.14. The ordering and instructions of the standards in the centralized IBR section were incorrect. Thus, the redesignations and additions of the standards were unable to be published in the CFR. Therefore, the EPA finds good cause to make the correction in this direct final action.

II. Summary of Cost, Environmental, and Economic Impacts

This action will have no cost, environmental, energy, or economic impacts beyond those impacts presented in the NESHAPs for Refractory Products Manufacturing Residual Risk and Technology Review (86 FR 66045), Carbon Black Production (major sources) and Cyanide Chemicals Manufacturing Residual Risk and Technology Reviews and Carbon Black Production Area Source Technology Review (86 FR 66096) published on November 19, 2021. These technical corrections are cost neutral.

List of Subjects in 40 CFR Part 63

Environmental protection, Administrative practices and procedures, Air pollution control, Hazardous substances, Incorporation by reference.

Joseph Goffman,
Acting Assistant Administrator, Office of Air and Radiation.

For the reasons set out in the preamble, 40 CFR part 63 is corrected as follows:

PART 63—NATIONAL EMISSION STANDARDS FOR HAZARDOUS AIR POLLUTANTS FOR SOURCE CATEGORIES

1. The authority citation for part 63 continues to read as follows:

Authority: 42 U.S.C. 7401 et seq.

Subpart A—General Provisions

2. Section 63.14 is amended by:

a. Redesignating paragraphs (h)(105) through (116) as (h)(108) through (119);

b. Redesignating paragraphs (h)(103) and (104) as (h)(105) and (106), respectively;

c. Redesignating paragraphs (h)(63) through (102) as (h)(64) through (103); and

d. Adding new paragraphs (h)(63), (104), and (107).

§ 63.14 Incorporations by reference.

* * * * *

(h) * * *

(63) ASTM D4282-15, Standard Test Method for Determination of Free Cyanide in Water and Wastewater by Microdiffusion, Approved July 15, 2015, IBR approved for § 63.1103(g).

* * * * *

(104) ASTM D6784-16, Standard Test Method for Elemental, Oxidized, Particle-Bound and Total Mercury in Flue Gas Generated from Coal-Fired Stationary Sources (Ontario Hydro Method), Approved March 1, 2016, IBR approved for table 4 to subpart SSSSS.

* * * * *

(107) ASTM D7237-18, Standard Test Method for Free Cyanide and Aquatic Free Cyanide with Flow Injection Analysis (FIA) Utilizing Gas Diffusion Separation and Amperometric Detection, Approved December 1, 2018, IBR approved for § 63.1103(g).

* * * * *

[FR Doc. 2022-10842 Filed 5-20-22; 8:45 am]

BILLING CODE 6560-50-P